ENVIRONMENTAL PROTECTION AGENCY

[FRL 12819-01-R2]

Dredged Material Management Options in the New York Bight

AGENCY: Environmental Protection Agency (EPA).

ACTION: Notice of intent to scope environmental review document.

SUMMARY: The Environmental Protection Agency (EPA) is preparing an environmental document consistent with the National Environmental Policy Act (NEPA) to inform its consideration of dredged material management options in the New York Bight. The EPA designates ocean sites for activities permitted or authorized under the Marine Protection, Research, and Sanctuaries Act of 1972 (MPRSA) and is responsible for continuing site management, including monitoring. The environmental review document will provide the information necessary to evaluate the potential for adverse impacts to the environment and other ocean uses, and to identify a preferred alternative that meets the EPA's site selection criteria.

DATES: Comments must be received on or before July 14, 2025. The EPA will hold virtual meetings on June 24 and June 26, 2025 to share information and solicit public input on alternatives being considered for continued ocean management of Historic Area Remediation Site (HARS)-suitable dredged material. To register for these meetings or to obtain additional information, please visit the EPA Region 2 Ocean Management website at https://www.epa.gov/marine-protection-permitting/region-2-ocean-dredged-material-management-new-york-bight-atlantic.

Please refer to the SUPPLEMENTARY INFORMATION section for additional information on the public meetings.

ADDRESSES: You may send comments, by any of the following methods:

• Email: Region2_MPRSA@epa.gov. Include “NEPA” in the subject line of the message.

FOR FURTHER INFORMATION CONTACT: Mark Reiss, EPA Region 2 Water Division, Dredging, Sediments & Oceans Section, 290 Broadway, New York, NY 10007, phone: 212-637-3799, email: Region2_MPRSA@epa.gov. Additional information is available on the EPA website at https://www.epa.gov/marine-protection-permitting/region-2-ocean-dredged-material-management-new-york-bight-atlantic.

SUPPLEMENTARY INFORMATION: The EPA intends to prepare an environmental assessment document consistent with NEPA to inform its options for dredged material management in the New York Bight. The environmental review document will provide the information necessary to evaluate potential adverse impacts on the environment and other ocean uses and to identify a preferred alternative that meets the EPA's site selection criteria at 40 CFR 228.5 and 228.6.

Need for Action: Dredging is essential for maintaining safe navigation in ports and harbors in and around New York and New Jersey. Since 1997, 88 million cubic yards of dredged material from the New York/New Jersey Harbor region that meets MPRSA sediment quality standards has been placed as “remediation material” to improve ecological conditions on the seabed at the Historic Area Remediation Site (HARS), located 3.3 miles east of Highlands, New Jersey, and 7.7 miles south of Rockaway, New York. Prior to that time, the HARS bottom was adversely affected by legacy pollutants accumulated over an extended period of American history. The HARS is nearing its remediation goal of placement of one meter of remediation dredged material over the site.

Considering the HARS's status, the U.S. Army Corps of Engineers (Army Corps) New York District compared the volume of dredged material estimated to be generated over the next 20 years to the capacity of all the nearby existing sites used to manage NY/NJ Harbor dredged material. As a result of the comparison, the Army Corps identified a shortfall in dredged material management capacity. Accordingly, the Army Corps has requested that the EPA evaluate alternatives for meeting future needs for managing HARS-suitable dredged material in the New York Bight and to initiate any site designation or modification actions necessary.

Alternatives: Alternatives that the EPA may consider include: the continued placement of dredged material meeting current remediation standards in portions of the HARS; designation of one or more additional sites for beneficial use of HARS-suitable dredged material to remediate other areas of New York Bight seafloor adversely affected by historical contamination on the seafloor; and options for use of certain types of HARS-suitable materials to create or enhance seafloor habitat.

Scoping: This NOI commences the public scoping process for the project. The EPA is soliciting input from federal, state, and local governments, industry, non-governmental organizations, and the public on the range of alternatives considered, specific environmental issues to be evaluated in the NEPA document, and the potential impacts of alternatives for managing HARS-suitable dredged material in the New York Bight. Registration information for virtual scoping meetings regarding this project is available at the EPA website listed above. Comments received at the virtual scoping meetings will be considered as part of the record. Comments can be submitted via email to: Region2_MPRSA@epa.gov. Comments will be accepted for a period of 30 days following the date of this notice.

Estimated Date of Draft NEPA Document: September 2025.

Dated: May 29, 2025.
Michael Martucci,
Regional Administrator, EPA Region 2.

[FR Doc. 2025-10540 Filed 6-11-25; 8:45 am]

BILLING CODE 6560-50-P